DEPARTMENT OF THE INTERIOR

National Park Service

[NPS-WASO-NAGPRA-NPS0038780; PPWOCRADN0-PCU00RP14.R50000]

Notice of Inventory Completion: University of Alabama Museums, Tuscaloosa, AL

AGENCY: National Park Service, Interior.

ACTION: Notice.

SUMMARY: In accordance with the Native American Graves Protection and Repatriation Act (NAGPRA), the University of Alabama Museums has completed an inventory of human remains and associated funerary objects and has determined that there is a cultural affiliation between the human remains and associated funerary objects and Indian Tribes or Native Hawaiian organizations in this notice.

DATES: Repatriation of the human remains and associated funerary objects in this notice may occur on or after November 4, 2024.

ADDRESSES: Dr. William Bomar, Executive Director, University of Alabama Museums, Box 870340, Tuscaloosa, AL 35487, telephone (205) 348-7551, email bbomar@ua.edu.

SUPPLEMENTARY INFORMATION: This notice is published as part of the National Park Service's administrative responsibilities under NAGPRA. The determinations in this notice are the sole responsibility of the University of Alabama Museums, and additional information on the determinations in this notice, including the results of consultation, can be found in its inventory or related records. The National Park Service is not responsible for the determinations in this notice.

Abstract of Information Available

Human remains representing, at least, 23 individuals have been identified. The 152 lots of associated funerary objects are ceramic vessels, ceramic sherds, lithics, ground stone, discoidal, shell, faunal bone, copper, stone disk, sandstone, charcoal, burial fill, and botanical remains.

The human remains and associated funerary objects from sites in Hale and Tuscaloosa Counties, Alabama, and Moundville that are in the possession of the University of Alabama Museums derive from various investigations and private collection donations primarily dating to the period 1933-1996. These sites in Hale and Tuscaloosa Counties are associated with the larger site of Moundville. During its Native American occupation, the Moundville site and the surrounding area were inhabited by several thousand people in a relatively dense occupancy, and over a prolonged period of time. Excavations at various sites in Hale and Tuscaloosa Counties, AL and Moundville contributed to the human remains and associated funerary objects in the University of Alabama Museums' collection.

At an unknown date, human remains representing, at minimum, one individual was removed from an unknown location in Tuscaloosa County, AL. Provenience from the bag where these human remains were found is as follows: “Material from dog Nancy Miss Marsh for Anth 13 76 Brookhaven, Tuscaloosa” (Box 1502, Bag 21). The collection contains no additional information as to the origin of the human remains and is simply designated as “Brookhaven.” Based on morphological characteristics identified through osteological analysis, the human remains are Native American. No known individuals are identified. No associated funerary objects are present.

In 1933, human remains representing, at minimum, three individuals were excavated and removed from Site 1Ha14/1Ha15, the Taylor Site. Site 1Ha14/1Ha15 was recorded by Walter B. Jones of the Alabama Museum of Natural History. The site consists of the mound originally called 1Ha14 and the associated village originally called 1Ha15. Site 1Ha14 is now considered to include both the mound and village and 1Ha15 is considered a synonym. The mound is a small eroded earthen mound, situated approximately 50 yards from the bank of the Touson Lake, a small ox box lake about two miles west of the town of Moundville. After a 1970 flood, the University of Alabama removed two burials, which had been exposed and disturbed at that time. Neither of the burials contained chronologically diagnostic grave goods. No known individuals are identified. No associated funerary objects are present.

From the 1930s to 2000, human remains representing, at minimum, 14 individuals were excavated and removed from site 1Tu66, the Grady Bobo site. Site 1Tu66 was originally recorded in 1933 by Walter B. Jones and John Dodd of the Alabama Museum of Natural History. The site was revisited by a survey party from the University of Michigan in 1978-1979. In 1999 the University of North Carolina archaeological field school returned to the Grady Bobo (1Tu66) site. Burial 1 was encountered while excavating Feature 10 during the field school in 1999. Dr. Keith Jacobi of the University of Alabama came to the Bobo site to document the remains in Burial 1 in situ. It is stated the bones were left in situ and covered with soil immediately after documentation was complete. All feature soil, including burial fill, was bagged. The site was revisited during the 2000 field season by the University of North Carolina. During this time two burials were uncovered and documented by Dr. Keith Jacobi of the University of Alabama in situ. No known individuals are identified. The 54 lots of associated funerary objects include ceramic sherds, lithics, ground stone, shell, faunal bone, charcoal, and botanical remains.

Between 1905 and 1979, human remains representing, at minimum, one individual was excavated and removed from site 1Ha107/1Tu41. Site 1Tu41 was originally recorded by C.B. Moore in 1905 and later in 1933 by Walter B. Jones of the Alabama Museum of Natural History. The site is a mound and was one of a dozen habitation sites in a large field. Each site was initially given a separate number, but later, during excavation, were all combined under site 1Ha107. The site complex, however, is centered in Tuscaloosa County, and included the previously recorded mound, 1Tu41. C.B. Moore reported a mound at this position. Despite its eroded state Moore dug into the mound but found no burials. In July 1933, Jones was able to relocate the mound, and he notes that the mound was largely obliterated by cultivation. The UMMA survey team in 1979 was unable to find the mound. No known individuals are identified. No associated funerary objects are present.

In 1937, human remains representing, at minimum, one individual was excavated and removed from site 1Tu115. Site 1Tu115 was originally recorded by Walter B. Jones of the Alabama Museum of Natural History. Human bone, pottery sherds, and a few flints were recorded as being seen. The collection contains no additional information as to the origin of the human remains and there is no map location for this site. No known individuals are identified. No associated funerary objects are present.

In 1970, human remains representing, at minimum, one individual was excavated and removed from site 1Tu240. Site 1Tu240 was recorded by Jerry Nielsen and Craig Sheldon of the University of Alabama. The original investigation was by boat as material was eroding out of the upper part of the riverbank, adjacent to a pasture. A pit was observed eroding out of the riverbank and a small midden zone was observed. Clay Wiggins of Fosters excavated a burial urn eroding out of the riverbank. No known individuals are identified. No associated funerary objects are present.

In 1973, human remains representing, at minimum, one individual was excavated and removed from site 1Tu242/1Tu303. Site 1Tu242 was recorded by Charles Hubbert of the University of Alabama. The site is located on a high, flat plateau just south of where a small stream enters the Sipsey River flood plain and just north of the railroad in the area. Caleb Curren, of the University of Alabama also used this number for a site near Moundville, but that site has been renumbered 1Tu303. No human remains were recorded as being excavated. No known individuals are identified. No associated funerary objects are present.

In 1996, human remains representing, at minimum, one individual was excavated and removed from site 1Tu768, the Gerald Wiggins Site. Site 1Tu768 was originally recorded by Margaret Scarry, John Scarry, and Mintcy Maxham of the University of North Carolina, Chapel Hill. The Gerald Wiggins site is a Late Moundville I farmstead in the Black Warrior floodplain. The site was identified by the landowner, Gerald Wiggins, on the basis of a feature eroding from a road cut on his property. Surface collection yielded artifacts only in the immediate vicinity of the darker soil of the feature. No human remains were recorded as being excavated. The individual identified was housed with faunal remains and so it is likely it was misidentified as faunal at the time of excavation. No known individuals are identified. No associated funerary objects are present.

During a period from the 1930s to the late 1980s, 29 lots of associated funerary objects were excavated and removed from Site 1Tu500, the Moundville site, during various excavations, including field schools conducted by the University of Alabama. Moundville, a large mound complex on the banks of the Black Warrior River whose occupation spans the Late Woodland and the West Jefferson phase through the Moundville I, II, and III phases, and terminates in the Late Mississippian/Protohistoric Moundville IV phase, has been the subject of two centuries of archaeological inquiry. The 29 lots of associated funerary objects include ceramic vessels, ceramic sherds, discoidals, shell, copper, and a stone disk.

In the 1930s and again in 1997, 69 lots of associated funerary objects were excavated and removed from Site 1Tu1, the Pride Place site. The site dates from Late Woodland, West Jefferson phase to the Moundville III phase. The lots of associated funerary objects include ceramic vessels, ceramic sherds, lithics, charcoal, ground stone, burial fill, discoidal, sandstone, faunal bone, and shell.

Cultural Affiliation

Based on the information available and the results of consultation, cultural affiliation is reasonably identified by the geographical location or acquisition history of the human remains and associated funerary objects described in this notice.

Determinations

The University of Alabama Museums has determined that:

• The human remains described in this notice represent the physical remains of 23 individuals of Native American ancestry.

• The 152 lots of objects described in this notice are reasonably believed to have been placed intentionally with or near individual human remains at the time of death or later as part of the death rite or ceremony.

• There is a connection between the human remains and associated funerary objects described in this notice and the Alabama-Quassarte Tribal Town; Coushatta Tribe of Louisiana; Seminole Tribe of Florida (previously listed as Seminole Tribe of Florida; The Chickasaw Nation; The Choctaw Nation of Oklahoma; The Muscogee (Creek) Nation; and The Seminole Nation of Oklahoma with letters of support from the Alabama-Coushatta Tribe of Texas and the Jena Band of Choctaw Indians.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after November 4, 2024. If competing requests for repatriation are received, the University of Alabama must determine the most appropriate requestor prior to repatriation. Requests for joint repatriation of the human remains and associated funerary objects are considered a single request and not competing requests. The University of Alabama is responsible for sending a copy of this notice to the Indian Tribes and Native Hawaiian organizations identified in this notice.

Authority: Native American Graves Protection and Repatriation Act, 25 U.S.C. 3003, and the implementing regulations, 43 CFR 10.10.

Dated: September 25, 2024.
Melanie O'Brien,
Manager, National NAGPRA Program.

[FR Doc. 2024-22885 Filed 10-3-24; 8:45 am]

BILLING CODE 4312-52-P